DEPARTMENT OF COMMERCE

National Oceanic and Atmospheric Administration

50 CFR Part 622

RIN 0648-BD32

Fisheries of the Caribbean, Gulf of Mexico, and South Atlantic; Comprehensive Fishery Management Plans for Puerto Rico, St. Thomas and St. John, and St. Croix

AGENCY: National Marine Fisheries Service (NMFS), National Oceanic and Atmospheric Administration (NOAA), Commerce.

ACTION: Notice of availability (NOA); request for comments.

SUMMARY: The Caribbean Fishery Management Council (Council) has submitted three fishery management plans (FMPs) for review, approval, and implementation by NMFS. If approved by the Secretary of Commerce, the new FMPs (island-based FMPs) would replace the existing U.S. Caribbean-wide FMPs and transition the management of Federal fisheries in the U.S. Caribbean exclusive economic zone (EEZ) from a U.S. Caribbean-wide approach to an island-based approach. By developing island-based FMPs, NMFS and the Council would better account for differences among the U.S. Caribbean islands with respect to culture, markets, fishing gear used, seafood preferences, and ecological impacts.

DATES: Written comments on the FMPs must be received by August 25, 2020.

ADDRESSES: You may submit comments on the FMPs, identified by “NOAA-NMFS-2019-0155”, by either of the following methods:

• Electronic Submission: Submit all electronic comments via the Federal e-Rulemaking Portal. Go to www.regulations.gov/#!docketDetail;D=NOAA-NMFS-2019-0155, click the “Comment Now!” icon, complete the required fields, and enter or attach your comments.

• Mail: Submit all written comments to Sarah Stephenson, NMFS Southeast Regional Office, 263 13th Avenue South, St. Petersburg, FL 33701.

Instructions: Comments sent by any other method, to any other address or individual, or received after the end of the comment period may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the FMPs may be obtained from www.regulations.gov or the Southeast Regional Office website at https://www.fisheries.noaa.gov/southeast/sustainable-fisheries/sustainable-fisheries-caribbean. Each FMP includes an environmental assessment (EA), regulatory impact review, and fishery impact statement.

FOR FURTHER INFORMATION CONTACT: María del Mar López, NMFS Southeast Regional Office, telephone: 727-824-5305, or email: maria.lopez@noaa.gov.

SUPPLEMENTARY INFORMATION: The Magnuson-Stevens Fishery Conservation and Management Act (Magnuson-Stevens Act) requires each regional fishery management council to submit any FMP or amendment to NMFS for review and approval, partial approval, or disapproval. The Magnuson-Stevens Act also requires that NMFS, upon receiving an FMP or amendment, publish an announcement in the Federal Register notifying the public that the FMP or amendment is available for review and comment.

The Council has submitted three FMPs for review, approval, and implementation by NMFS. The FMPs are the Comprehensive FMP for the Puerto Rico EEZ (Puerto Rico FMP), the Comprehensive FMP for the St. Thomas and St. John EEZ (St. Thomas and St. John FMP), and the Comprehensive FMP for the St. Croix EEZ (St. Croix FMP). If approved, the island-based FMPs would be implemented by NMFS through regulations at 50 CFR part 622 under the authority of the Magnuson-Stevens Act.

Background

Currently, the Council manages fisheries under its authority under four U.S. Caribbean-wide FMPs: the FMP for the Reef Fish Fishery of Puerto Rico and the U.S. Virgin Islands (USVI) (Reef Fish FMP), the FMP for the Spiny Lobster Fishery of Puerto Rico and the USVI (Spiny Lobster FMP), the FMP for the Queen Conch Resources of Puerto Rico and the USVI (Queen Conch FMP), and the FMP for the Corals and Reef Associated Plants and Invertebrates of Puerto Rico and the USVI (Coral FMP) through regulations implemented by NMFS at 50 CFR part 622.

NMFS implemented the Spiny Lobster FMP in 1984 (49 FR 50049, December 26, 1984), the Reef Fish FMP in 1985 (50 FR 34850, August 28, 1985), the Coral FMP in 1995 (60 FR 58221, November 27, 1995), and the Queen Conch FMP in 1996 (61 FR 65481, December 13, 1996). Each FMP has been amended on several occasions. Under these FMPs, the Council and NMFS manage fisheries across the entire U.S. Caribbean. However, the Council applies certain management measures separately within Federal waters of Puerto Rico, St. Thomas and St. John, and St. Croix based on the availability of island-specific data. For example, the final rule implementing Amendment 5 to the Reef Fish FMP and Amendment 2 to the Queen Conch FMP (2010 Caribbean Annual Catch Limit (ACL) Amendment) (76 FR 82404, December 30, 2011) defined the fishery management boundaries of the U.S. Caribbean EEZ for Puerto Rico, St. Thomas and St. John, and St. Croix, and established separate, island-specific ACLs and accountability measures (AM) for species addressed in those FMP amendments.

In 2012, the Council initiated public discussion of an island-based approach to the management of fisheries in the U.S. Caribbean EEZ to address requests from fishermen, fishing community representatives, and the governments of Puerto Rico and the USVI (St. Thomas, St. John, and St. Croix) that the Council consider the differences among the islands when addressing fisheries management in the U.S. Caribbean. These entities highlighted the unique characteristics of the fishery resources within each island or island group, and the communities that are dependent on those resources. For example, there are different species that are economically or ecologically important in Federal waters around each island or island groups, and the island-based approach provides a better mechanism to identify those species and to establish related management measures for those species (e.g., bag limits, trip limits, closed areas, and closed seasons). By developing island-based FMPs, NMFS and the Council would better account for differences among the U.S. Caribbean islands with respect to culture, markets, fishing gear used, seafood preferences, and the ecological impacts.

The Council responded to these public requests by deciding to shift from a U.S. Caribbean-wide management approach to an island-based management approach and developing FMPs for Puerto Rico, St. Thomas and St. John, and St. Croix, respectively. The Council's decision was supported by an EA completed in 2014, which analyzed transitioning from U.S. Caribbean-wide to island-based management. The EA evaluated the impact of incorporating the regulations in effect at that time under the U.S. Caribbean-wide FMPs into FMPs for different island management areas. For example, the Council evaluated subdividing the island management zones into a two, three, or four island-group approach. The EA provided the public with the expected and potential impacts of such a shift in Federal fisheries management in the U.S. Caribbean. Based on the 2014 EA, the Council decided to develop FMPs for three island areas, the Puerto Rico FMP, the St. Thomas and St. John FMP, and the St. Croix FMP, that are noticed here. Each island-based FMP is analyzed separately in an EA.

If approved, the Puerto Rico FMP, the St. Thomas and St. John FMP, and the St. Croix FMP, in combination, would replace the existing U.S. Caribbean-wide FMPs. Each individual FMP would establish management measures for the EEZ around each island. The U.S. Caribbean EEZ, also referred to as Federal waters, begins 9 nautical miles (nm) from shore off Puerto Rico and 3 nm from shore off the USVI, and the EEZ extends up to 200 nm from shore. Federal waters around Puerto Rico, St. Thomas and St. John, and St. Croix are defined as the respective island management areas under the island-based FMPs. Each island-based FMP would retain most of the current management measures established under the U.S. Caribbean-wide FMPs that apply to the respective island management area, including seasonal and area closures, minimum size limits, and recreational bag limits. In addition, each island-based FMP would revise other management measures such as the species included for Federal management, and ACLs and AMs. Thus, Federal fisheries within each island management area would be managed by provisions within the respective island-based FMP and fisheries management would be adapted to the individual characteristics of Puerto Rico, St. Thomas and St. John, and St. Croix.

Actions Contained in Each FMP

Each of the FMPs for Puerto Rico, St. Thomas and St. John, and St. Croix contain an EA that considers whether to make the transition from U.S. Caribbean-wide management to management at the particular island management area level. After deciding to make the transition, each EA considers alternatives for many of the management measures to be applied at the island management area level. The island-based FMPs would incorporate fishery management measures presently included in the current Spiny Lobster, Reef Fish, Queen Conch, and Coral FMPs that are applicable to the EEZ around each of the island management areas and would modify the specific management measures as needed. The island-based FMPs would revise the list of species to be managed and modify the stock or stock complexes under which those species are managed; revise status determination criteria (SDC), management reference points, and AMs; incorporate descriptions of essential fish habitat (EFH) for species new to Federal management; and update FMP framework procedures.

Each EA associated with an island-based FMP contains the same set of management actions, as described below. For each management action, information applicable to all three island management areas is described first, followed by island area-specific information where applicable.

Island-Based Management

For each island management area, the corresponding island-based FMP would replace the four U.S. Caribbean-wide FMPs currently in place as they apply to the particular island management area. Management measures within those U.S. Caribbean-wide FMPs would be reorganized at the level of each island management area. Each island-based FMP would include only those management measures applicable to that island management area. For example, minimum size limits applicable to the harvest of certain parrotfish species in the St. Croix management area would only be included in the St. Croix FMP.

Selection of Stocks To Be Managed

The stocks currently managed in the U.S. Caribbean EEZ under the Reef Fish, Spiny Lobster, Queen Conch, and Coral FMPs are composed of 81 species of reef fish, 58 species of aquarium trade fish, spiny lobster, queen conch, 94 genera or species of corals, and 63 genera or species of aquarium trade invertebrates (see Table 1 to appendix A of 50 CFR part 622). For each island management area, the island-based FMPs would designate a unique list of species to be managed based on the specific characteristics of each island management area. The Council's Scientific and Statistical Committee (SSC) and the District Advisory Panel from each island management area provided input and recommendations on the criteria used for the Council to select the species to be included in each respective FMP. As described in greater detail in the FMPs, the inclusion or exclusion of species for management was determined using five sequential principles applied to species for which landings are available, beginning with those in greatest need of conservation and management (e.g., overfished, prohibited harvest, etc.). Among the species considered for management are those retained from the four U.S. Caribbean-wide FMPs as well as non-managed species for which the Southeast Fisheries Science Center (SEFSC) had data indicating that the species had been landed in the particular island area. For all of these species considered for management, the Council used a stepwise application of the five criteria to determine if a species should be included for management in each island-based FMP. Table 2.2.6 in each island-based FMP lists the stocks proposed for Federal management.

Puerto Rico Stocks for Management

Following the stepwise species selection process, spiny lobster, queen conch, 63 species of fish, and all species of corals, sea urchins, and sea cucumbers that occur within the Puerto Rico management area are proposed for management in the Puerto Rico FMP. Eighteen fish species would be new to Federal management under the Puerto Rico FMP.

St. Thomas and St. John Stocks for Management

Following the stepwise species selection process, spiny lobster, queen conch, 47 species of fish, and all species of corals, sea urchins, and sea cucumbers that occur within the St. Thomas and St. John management area are proposed for management in the St. Thomas and St. John FMP. Three fish species would be new to Federal management under the St. Thomas and St. John FMP.

St. Croix Stocks for Management

Following the stepwise species selection process, spiny lobster, queen conch, 43 species of fish, and all species of corals, sea urchins, and sea cucumbers that occur within the St. Croix management area are proposed for management in the St. Croix FMP. Two fish species would be new to Federal management under the St. Croix FMP.

Stock Complex Organization and Selection of Indicator Stocks

After establishing the list of species proposed for management under each island-based FMP, the Council determined whether those species would be managed as individual stocks or in stock complexes. For those managed in stock complexes, the Council determined if one or more indicator stocks should be assigned to the stock complex. This action would result in a new organization of stocks, and therefore a new number of stocks and stock complexes would be managed under each island-based FMP relative to the U.S. Caribbean-wide FMPs. Table 5.13.3 in each island-based FMP lists the proposed stocks complexes and indicator stocks.

Puerto Rico Stock Organization

Species proposed for management under the Puerto Rico FMP would be managed as 18 individual stocks and 19 stock complexes and would include 7 indicator stocks.

St. Thomas and St. John Stock Organization

Species proposed for management under the St. Thomas and St. John FMP would be managed as 12 individual stocks and 14 stock complexes and would include 9 indicator stocks.

St. Croix Stock Organization

Species proposed for management under the St. Croix FMP would be managed as 13 individual stocks and 13 stock complexes and would include 6 indicator stocks.

Management Reference Points and Status Determination Criteria

The Magnuson-Stevens Act requires that FMPs specify a number of reference points for managed fish stocks, including maximum sustainable yield (MSY) or MSY proxy, ACL, as well as stock SDC including overfished and overfishing thresholds. These reference points and SDC, and other provisions from which they are derived, such as acceptable biological catch (ABC), are intended to provide the means to measure the status and performance of fisheries relative to established goals.

The current SDC and management reference points for stocks managed under the four U.S. Caribbean-wide FMPs were established by the final rules for the Caribbean Sustainable Fisheries Act Amendment (70 FR 62073, October 28, 2005), and the ABC control rules included in the 2010 Caribbean ACL Amendment and the final rule implementing Amendment 6 to the Reef Fish FMP, Amendment 5 to the Spiny Lobster FMP, Amendment 3 to the Queen Conch FMP, and Amendment 3 to the Coral FMP (76 FR 82414, December 30, 2011) (2011 Caribbean ACL Amendment).

The ABC control rules contained in each island-based FMP would replace the current ABC control rules included in the 2010 Caribbean ACL Amendment and 2011 Caribbean ACL Amendment, as applicable. The island-based FMPs would provide a complete revision of reference points and SDC for stocks and stock complexes included for management following a three-step process.

Step 1 adopts and applies a newly devised, 4-tiered, ABC control rule to specify SDC and ABC recommendations depending on differing levels of data availability. Beginning with Tier 4 and moving up the tier levels (lower tier numbers), successful application of each tier requires an increasing amount of information. Tier 4 is applicable in situations where an accepted quantitative assessment is not available, which is the present case for all stocks proposed for management in the Puerto Rico, St. Thomas and St. John, and St. Croix FMPs. In Tier 4, the most data-limited of the options, an MSY proxy, maximum fishing mortality threshold, and MSST are defined with respect to assumptions about fishing mortality rate and biomass, but cannot be quantified due to data limitations. In addition, Tier 4 introduces a new reference point, the sustainable yield level (SYL). The SYL is a level of landings that can be sustained over the long term. SYL is intended to be used when quantitative guidance with which to set MSY or an MSY proxy is not available. The SYL would serve as a proxy for the OFL and a minimum estimate of MSY where MSY is greater than or equal to SYL, and thus SYL also is an MSY proxy.

Step 2 establishes a proxy to use when FMSY cannot be determined, as in Tier 4 of the ABC control rule. For all three island management areas, the Council established a proxy equal to 30 percent of the maximum spawning potential of a stock under conditions of no fishing mortality (F30%SPR).

Step 3 applies a reduction factor, reflecting the Council's estimate of management uncertainty, to the recommended ABC for each stock or stock complex to specify the ACL for the stock or stock complex. The OY would be set equal to the ACL for each stock or stock complex. All reference points are defined in terms of round weight in pounds.

The tiered approached to the ABC control rule better positions the Council to take advantage of future improvements in data and analytical methodologies. Revising the reference points and SDC based on recent landings data ensures to the greatest extent practicable that an appropriate period of stable and sustainable landings is identified and used for setting management reference points and SDC.

Puerto Rico Stock Evaluation

For the Puerto Rico FMP, sector-specific landings data for Council-managed fish (reef fish, pelagic fish, and rays) were available for the commercial and recreational fishing sectors operating in EEZ waters around Puerto Rico. These landings data were used to determine and establish reference points and SDC for fish stocks and stock complexes (Step 1 of the three-step process used to revise reference points and SDCs described above), and set ACLs by sector with available data (Step 3 of the process described above). For spiny lobster, only commercial landings data are collected as recreational data are not available. Because sector-specific landings data are not available, reference points and SDC for spiny lobster derived in Steps 1 and 3 are based on commercial landings. The SSC determined that some species proposed for management under the Puerto Rico FMP were more vulnerable to overfishing and recommended that the ABC be set at zero (the corresponding ACL and OY would also equal zero). These included queen conch, Nassau grouper, goliath grouper, blue, midnight, and rainbow parrotfishes, giant manta ray, spotted eagle ray, southern stingray, sea cucumbers, sea urchins, and corals. The Council also determined an MSY proxy, MFMT, and MSST based on the fishing mortality rate in Step 2 of the three-step process used to revise reference points and SDCs stated earlier. To determine the ACL for those stocks and stock complexes for which harvest is not prohibited (i.e., for which the ABC is greater than zero), the Council proposed an uncertainty buffer of 0.85 for the angelfish, parrotfish, and surgeonfish stock complexes and an uncertainty buffer of 0.95 for all remaining stocks and stock complexes. The ABC for each of those stocks or stock complexes was multiplied by the buffer to determine the ACL for each stock and stock complex proposed for management. For fish stocks and stock complexes, OY would equal the total (commercial and recreational) ACL when data from both sectors are available. In the event that landings for one sector are not available for the averaging period, the sector would not be managed by a separate sector ACL. The ACL for the sector with available data would be the applicable ACL for the stock or stock complex. For spiny lobster, the OY would equal the commercial ACL, as the ACL is based on commercial landings. This ACL applies to all harvest of spiny lobster, whether commercial or recreational.

St. Thomas and St. John Stock Evaluation

For the St. Thomas and St. John FMP, recreational landings data were not available, thus management reference points and SDC (e.g., SYL, ABC, and ACL) for the stocks and stock complexes proposed for management were derived using commercial landings in Steps 1 and 3 of the three-step process used to revise reference points and SDC. The SSC determined that some species proposed for management under the St. Thomas and St. John FMP were more vulnerable to overfishing and recommended that the ABC be set at zero pounds (the corresponding ACL and OY would also equal zero). These included queen conch, Nassau grouper, goliath grouper, blue, midnight, and rainbow parrotfishes, sea cucumbers, sea urchins, and corals. The Council also determined an MSY proxy, MFMT, and MSST based on the fishing mortality rate in Step 2 of the three-step process used to revise reference points and SDCs. To determine the ACL for those stocks and stock complexes for which harvest is not prohibited (i.e., for which the ABC is greater than zero), in Step 3, the Council proposed an uncertainty buffer of 0.85 for the angelfish, parrotfish, and surgeonfish stock complexes, and an uncertainty buffer of 0.95 for all remaining stocks and stock complexes. The ABC for each of those stocks or stock complexes was multiplied by the buffer to determine the ACL for each stock and stock complex proposed for management. For all stocks and stock complexes, OY would equal the ACL.

St. Croix Stock Evaluation

For the St. Croix FMP, recreational landings data were not available, thus management reference points and SDC (e.g., SYL, ABC, and ACL) for the stocks and stock complexes proposed for management were derived using commercial landings in Steps 1 and 3 of the three-step process used to revise reference points and SDC. The SSC determined that some species proposed for management under the St. Croix FMP were more vulnerable to overfishing and recommended that the ABC be set at zero (the corresponding ACL would also equal zero). These species would include Nassau grouper, goliath grouper, blue, midnight, and rainbow parrotfishes, sea cucumbers, sea urchins, and corals. The SSC also recommended an ABC of 50,000 lb (22,680 kg) for queen conch in the St. Croix EEZ. The Council also determined an MSY proxy, MFMT, and MSST based on the fishing mortality rate in Step 2 of the three-step process used to revise reference points and SDCs. To determine the ACL for each stock and stock complex proposed for management for the stocks and stock complexes in which the ABCs were not equal to zero, in Step 3, the Council proposed an uncertainty buffer of 0.85 for the angelfish, parrotfish, and surgeonfish stock complexes, an uncertainty buffer of 0.95 for spiny lobster and all other fish stocks and stock complexes, and no uncertainty buffer for queen conch, as management uncertainty was accounted for when setting the ABC, thus no additional reduction from the ABC to the ACL was necessary or appropriate. The ABC for each of those stocks or stock complexes was multiplied by the buffer to determine the ACL for each stock and stock complex proposed for management. For all stocks and stock complexes, OY would equal the ACL.

Accountability Measures

Under the current AMs, reef fish and spiny lobster landings data for each island management area are evaluated relative to the applicable ACL based on a moving multi-year average of landings, using the most recent, complete three years of landings data available. For reef fish species or species groups in the EEZ around Puerto Rico, ACLs are specific by sector and NMFS applies AMs on a sector-specific basis to the sector that exceeded its ACL if both the sector-specific ACL and total ACL (commercial and recreational) is exceeded. For reef fish species or species groups in the EEZ around the USVI and for spiny lobster in all management areas, if NMFS determines that the applicable ACL for a particular stock or stock complex was exceeded because of enhanced data collection and monitoring efforts instead of an increase in catch, NMFS will not reduce the length of the applicable fishing season the following fishing year. For reef fish species or species groups in the EEZ around Puerto Rico, if either the sector ACL or the total ACL is exceeded because of enhanced data collection and monitoring efforts instead of an increase in catch, NMFS will not reduce the length of the applicable sector fishing season the following fishing year. However, if landings exceed the applicable ACL for a species or species group and this exception does not apply, NMFS will reduce the length of the fishing season by the amount necessary to ensure that landings do not exceed the applicable ACL in the following fishing year for that species or species group. Additionally, any fishing season reduction is applied starting from September 30 and earlier toward the beginning of the fishing year. If the length of the required fishing season reduction exceeds the time period of January 1 through September 30, any additional fishing season reduction will be applied in the same fishing year from October 1 and later toward the end of the fishing year.

For most stocks and stock complexes in each island-based FMP, the AMs proposed would be triggered if landings of a stock or stock complex exceed the respective ACL. The proposed AMs were selected to ensure that, if an ACL for a particular stock or stock complex is exceeded, it will not be exceeded in the year following the ACL overage determination, or for pelagic stocks, that landings can be controlled at or below the ACL.

For each reef fish stock and stock complex where harvest is allowed, and for spiny lobster in the respective island management areas, each island-based FMP proposes to specify an AM that would be triggered if the ACL for the stock or stock complex has been exceeded based on a moving multi-year average of landings as described in the FMP. If the ACL is exceeded, the length of the fishing season for the affected stock or stock complex in the fishing year following an ACL overage determination would be reduced by the amount needed to prevent such an overage from occurring again. If the NMFS SEFSC determines that the overage occurred because of improved data collection and monitoring rather than because catches actually increased, then the AMs would not be applied. Additionally, the Regional Administrator in consultation with the Council may deviate from the specific time sequences of landings based on data availability. Any fishing season reduction would be applied from September 30 and earlier toward the beginning of the fishing year. If the length of the required fishing season reduction exceeds the time period of January 1 through September 30, any additional fishing season reduction would be applied from October 1 forward, toward the end of the fishing year.

For the pelagic stocks and stock complexes, all of which would be new to Federal management within each island-based FMP, an annual catch target (ACT) would be specified as a percentage of the ACL (ACT equals 90 percent of ACL) that would serve as the AM trigger. An AM would be triggered if the landings for a stock or stock complex exceed its ACT based on a moving multi-year average of landings as described in the FMP. The Regional Administrator in consultation with the Council may deviate from the specific time sequences of landings based on data availability. If an AM was triggered, the Council in consultation with the SEFSC would determine whether corrective action is needed.

For stocks with harvest prohibitions in each island management area, those prohibitions would serve as the AMs. No additional or unique AMs are proposed for St. Thomas and St. John.

Puerto Rico Stock AMs

For reef fish stocks and stock complexes in the Puerto Rico management area, the default process discussed for AMs above would be modified by the Puerto Rico FMP to reflect sector-specific management. Where sector-specific ACLs were determined, landings would be evaluated relative to the applicable commercial or recreational ACL, depending on data availability. An AM would be triggered if a sector's landings exceeded the respective sector ACL and the total landings (commercial plus recreational) exceeded the total ACL (commercial plus recreational) for a specific stock or stock complex. The AM would be applied only for the particular sector that exceeded its ACL. NMFS would not apply an AM if the NMFS SEFSC determines that either ACL overage (sector-specific or total ACL) occurred because data collection or monitoring improved rather than because catch increased. However, as described above, if landings for one sector are not available for the averaging period, then that sector would not be managed by a separate sector ACL. The ACL for the sector with available data would be the ACL for that stock or stock complex and would apply to the application of AMs. Landings would be evaluated relative to the ACL. The AM would operate to reduce the length of the fishing season for all sectors by the amount necessary to ensure to the greatest practicable extent that landings do not again exceed the ACL in the year of application. For spiny lobster, only commercial harvest data are collected as recreational landings are not available. However, the ACL and AM for spiny lobster would apply to commercial and recreational harvest. For all stock and stock complexes, any fishing season reduction resulting from an AM application would be applied during the fishing year after the overage is detected in the same manner as stated earlier, i.e., from September 30 and earlier in the fishing year.

St. Croix Stock AMs

For St. Croix, the general process described above applies, with modifications for queen conch. The St. Croix FMP would continue to allow queen conch harvest from the EEZ east of 64°34′ W longitude during the open fishing season. The rest of the U.S. Caribbean EEZ would continue to be closed to the harvest of queen conch. The proposed AM for queen conch would be applied if, based on in-season monitoring, NMFS determines its ACL is reached or is projected to be reached prior to the end of the fishing season. If the AM is applied, the Regional Administrator would close the St. Croix management area to the harvest and possession of queen conch. During any such closure, no person would be allowed to fish for or possess a Caribbean queen conch in or from Federal waters.

Essential Fish Habitat

The EFH designations for species and species groups that are currently managed under the U.S. Caribbean-wide FMPs and are proposed for management under the Puerto Rico FMP, St. Thomas and St. John FMP, and St. Croix FMP would remain as currently described in the Sustainable Fisheries Act Amendment (70 FR 62073, October 28, 2005). For species new to Federal management, each island-based FMP proposes to describe and identify EFH according to functional relationships between life history stages of the species and marine and estuarine habitats, based on best scientific information available from the literature, landings data, fishery-independent surveys, and expert opinion.

Framework Procedures

The current framework procedures for the Reef Fish, Spiny Lobster, Queen Conch, and Coral FMPs provide the Council and NMFS the flexibility to more expeditiously adjust management options to respond to changing fishery conditions or new scientific information. Each island-based FMP proposes to update the framework procedures to expand or modify the range of existing management measures that can be implemented by the Council without going through a full FMP amendment process. The proposed framework procedures for each island-based FMP are identical and future proposed actions could be implemented either by an open abbreviated framework, an open standard framework, or through a closed framework procedure. Some of the management measures proposed to be adjusted through framework procedures include re-specification of management reference points and SDCs, and modification of seasonal, year-round, or area closures, commercial trip limits, recreational bag and possession limits, size limits, and fishing gear modifications.

Proposed Rule for the Island-based FMPs

A proposed rule that would implement the island-based FMPs is being drafted. In accordance with the Magnuson-Stevens Act, NMFS is evaluating the proposed rule to determine whether it is consistent with the Magnuson-Stevens Act and other applicable laws. If that determination is affirmative, NMFS will publish the proposed rule in the Federal Register for public review and comment.

Consideration of Public Comments

The Council has submitted the Puerto Rico FMP, St. Thomas and St. John FMP, and St. Croix FMP for Secretarial review, approval, and implementation. Comments on any of the FMPs must be received by August 25, 2020. Comments received during the respective comment periods, whether specifically directed to any or all of the FMPs or to the proposed rule, will be considered by NMFS in the decision to approve, disapprove, or partially approve the island-based FMPs. Comments received after the comment period will not be considered by NMFS in this decision. All comments received by NMFS on an island-based FMP or the proposed rule during the comment period will be addressed in the final rule.

Authority: 16 U.S.C. 1801 et seq.

Dated: June 23, 2020.
Jennifer M. Wallace,
Acting Director, Office of Sustainable Fisheries, National Marine Fisheries Service.

[FR Doc. 2020-13823 Filed 6-25-20; 8:45 am]

BILLING CODE 3510-22-P